DEPARTMENT OF VETERANS AFFAIRS

[OMB Control No. 2900-0138]

Agency Information Collection Activity Under OMB Review: Request for Details of Expenses

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0138.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0138” in any correspondence.

SUPPLEMENTARY INFORMATION:

Authority: 38 U.S.C. 1522.

Title: Request for Details of Expenses, VA Form 21P-8049.

OMB Control Number: 2900-0138.

Type of Review: Revision of a currently approved collection.

Abstract: VA Form 21P-8049 is primarily used to gather the necessary information to determine eligibility for VA Pension. Without VA Form 21P-8049, VA will not be able to properly evaluate the totality of a claimant's circumstances when considering an application for benefits. VA will also be unable to evaluate the totality of claimant's circumstances when VA receives evidence of a significant increase in the corpus of a claimant's estate. The collection is conducted on a one-time basis and cannot be conducted less frequently. The respondent burden has decreased due to the number of receivables over the past year with non substantive and substantive changes. These changes include updated instructions, reformatting to include optical character recognition boxes, and renumbering section headers and questions.

An agency may not conduct or sponsor, and a person is not required to respond to a collection of information unless it displays a currently valid OMB control number. The Federal Register Notice with a 60-day comment period soliciting comments on this collection of information was published at 87 FR 56151 on September 13, 2022, pages 56151 and 56152.

Affected Public: Individuals or Households.

Estimated Annual Burden: 218 hours.

Estimated Average Burden per Respondent: 15 minutes.

Frequency of Response: One time.

Estimated Number of Respondents: 871 per year.

By direction of the Secretary.
Dorothy Glasgow,
VA PRA Clearance Officer, (Alt) Office of Enterprise and Integration, Data Governance Analytics, Department of Veterans Affairs.

[FR Doc. 2022-25616 Filed 11-22-22; 8:45 am]

BILLING CODE 8320-01-P